DEPARTMENT OF COMMERCE

International Trade Administration

[A-570-977]

High Pressure Steel Cylinders From the People's Republic of China: Antidumping Duty Order

AGENCY: Import Administration, International Trade Administration, Department of Commerce.

SUMMARY: Based on affirmative final determinations by the Department of Commerce (“Department”) and the International Commission (“ITC”), the Department is issuing an antidumping duty order on high pressure steel cylinders from the People's Republic of China (“PRC”). On June 14, 2012, the ITC notified the Department of its affirmative determination of material injury to a U.S. industry.¹

¹ See High Pressure Steel Cylinders from China (Investigation Nos. 701-TA-480 and 731-TA-1188 (Final), USITC Publication 4328, June 2012).

DATES: Effective Date: June 21, 2012.

FOR FURTHER INFORMATION CONTACT: Alan Ray or Emeka Chukwudebe, AD/CVD Operations, Office 9, Import Administration, International Trade Administration, U.S. Department of Commerce, 14th Street and Constitution Avenue NW., Washington, DC 20230; telephone: (202) 482-5403 or (202) 482-0219, respectively.

SUPPLEMENTARY INFORMATION:

Background

In accordance with sections 735(d) and 777(i)(1) of the Tariff Act of 1930, as amended (“Act”), the Department published the final determination of sales at less than fair value in the antidumping investigation of high pressure steel cylinders from the PRC.²

² See High Pressure Steel Cylinders From the People's Republic of China: Final Determination of Sales at Less Than Fair Value, 77 FR 26739 (May 7, 2012) (“Final Determination”).

Scope of the Order

The merchandise covered by the order is seamless steel cylinders designed for storage or transport of compressed or liquefied gas (“high pressure steel cylinders”). High pressure steel cylinders are fabricated of chrome alloy steel including, but no limited to, chromium-molybdenum steel or chromium magnesium steel, and have permanently impressed into the steel, either before or after importation, the symbol of a U.S. Department of Transportation, Pipeline and Hazardous Materials Safety Administration (“DOT”) approved high pressure steel cylinder manufacturer, as well as an approved DOT type marking of DOT 3A, 3AX, 3AA, 3AAX, 3B, 3E, 3HT, 3T, or DOT-E (followed by a specific exemption number) in accordance with the requirements of sections 178.36 through 178.68 of Title 49 of the Code of Federal Regulations, or any subsequent amendments thereof. High pressure steel cylinders covered by the investigation have a water capacity up to 450 liters, and a gas capacity ranging from 8 to 702 cubic feet, regardless of corresponding service pressure levels and regardless of physical dimensions, finish or coatings.

Excluding from the scope of the order are high pressure steel cylinders manufactured to UN-ISO-9809-1 and 2 specifications and permanently impressed with ISO or UN symbols. Also excluded from the investigation are acetylene cylinders, with or without internal porous mass, and permanently impressed with 8A or 8AL in accordance with DOT regulations.

Merchandise covered by the order is classified in the Harmonized Tariff Schedule of the United States (“HTSUS”) under subheading 7311.00.00.30. Subject merchandise may also enter under HTSUS subheadings 7311.00.00.60 or 7311.00.00.90. Although the HTSUS subheadings are provided for convenience and customs purposes, the written description of the merchandise under the investigation is dispositive.

Provisional Measures

Section 733(d) of the Act states that instructions to suspend liquidation that are issued pursuant to an affirmative preliminary determination may not remain in effect for more than four months except where exporters representing a significant proportion of exports of the subject merchandise request the Department to extend that four-month period to no more than six months. At the request of the exporters that accounted for a significant proportion of exports of the subject merchandise in the investigations of high pressure steel cylinders from the PRC, we extended the four-month period to no more than six months.³

³ See High Pressure Steel Cylinders From the People's Republic of China: Postponement of Final Determination of Antidumping Duty Investigation, 77 FR 1060 (January 9, 2012) (“Final Postponement”).

In this investigation, the six-month period beginning on the date of the publication of the preliminary determinations (i.e., December 15, 2011) ended on June 11, 2012. Furthermore, section 737 of the Act states that definitive duties are to begin on the date of publication of the ITC's final injury determination. Therefore, in accordance with section 733(d) of the Act, we will instruct U.S. Customs and Border Protection (“CBP”) to terminate the suspension of liquidation and to liquidate, without regard to antidumping duties, unliquidated entries of high pressure steel cylinders from the PRC entered, or withdrawn from warehouse, for consumption after June 11, 2012, and before the date of publication of the ITC's final injury determination in the Federal Register. Suspension of liquidation will resume on or after the date of publication of the ITC's final injury determination in the Federal Register.

Continuation of Suspension of Liquidation

In accordance with section 735(c)(1)(B) of the Act, we will instruct CBP to suspend liquidation on all entries of subject merchandise from the PRC. We will also instruct CBP to require cash deposits equal to the estimated amount by which the normal value exceeds the U.S. price as indicated in the chart below. These instructions suspending liquidation will remain in effect until further notice.

Antidumping Duty Order

On June 14, 2012, in accordance with section 735(d) of the Act, the ITC notified the Department of its final determination, pursuant to section 735(b)(1)(A)(i) of the Act, that an industry in the United States is materially injured by reason of less-than-fair-value imports of subject merchandise from the PRC. Therefore, in accordance with section 736(a)(1) of the Act, the Department will direct CBP to assess, upon further instruction by the Department, antidumping duties equal to the amount by which the normal value of the merchandise exceeds the export price (or constructed export price) of the merchandise for all relevant entries of high pressure steel cylinders from the PRC. These antidumping duties will be assessed on unliquidated entries of high pressure steel cylinders from the PRC entered, or withdrawn from the warehouse, for consumption on or after December 15, 2011, the date on which the Department published its Preliminary Determination.⁴

⁴ See High Pressure Steel Cylinders From the People's Republic of China: Preliminary Determination of Sales at Less Than Fair Value, 76 FR 77964 (December 15, 2011) (“Preliminary Determination”).

Effective on the date of publication of the ITC's final affirmative injury determination, CBP will require, at the same time as importers would normally deposit estimated duties on this merchandise, a cash deposit for estimated antidumping duties equal to the weighted-average dumping margins as listed below.⁵ The “PRC-wide” rate applies to all exporters of subject merchandise not specifically listed. The weighted-average dumping margins are as follows:

⁵ See section 736(a)(3) of the Act.

Exporter | Producer | Weighted- average dumping margin (percent)
Beijing Tianhai Industry Co., Ltd | Beijing Tianhai Industry Co., Ltd | 6.62
Beijing Tianhai Industry Co., Ltd | Tianjin Tianhai High Pressure Container Co., Ltd | 6.62
Beijing Tianhai Industry Co., Ltd | Langfang Tianhai High Pressure Container Co., Ltd | 6.62
Shanghai J.S.X. International Trading Corporation | Shanghai High Pressure Special Gas Cylinder Co., Ltd | 6.62
Zhejiang Jindun Pressure Vessel Co., Ltd | Zhejiang Jindun Pressure Vessel Co., Ltd | 6.62
Shijiazhuang Enric Gas Equipment Co., Ltd | Shijiazhuang Enric Gas Equipment Co., Ltd | 6.62
PRC-Wide Rate⁶ |  | 31.21

This notice constitutes the antidumping duty order with respect to high pressure steel cylinders from the PRC pursuant to section 736(a) of the Act. Interested parties may contact the Department's Central Records Unit, Room 7046 of the main Commerce building, for copies of an updated list of antidumping duty orders currently in effect.

⁶ The PRC-Wide entity includes: Shanghai High Pressure Container Co., Ltd.; Heibei Baigong Industrial Co., Ltd.; Nanjing Ocean High-Pressure Vessel Co., Ltd.; Qingdao Baigong Industrial and Trading Co., Ltd.; Shandong Huachen High Pressure Co., Ltd.; Shandong Province Building High Pressure Vessel Limited Company; Sichuan Mingchaun Chengyu Co., Ltd.; and Zhuolu High Pressure Vessel Co., Ltd.

This order is published in accordance with section 736(a) of the Act and 19 CFR 351.211.

Dated: June 18, 2012.
Paul Piquado,
Assistant Secretary for Import Administration.

[FR Doc. 2012-15297 Filed 6-20-12; 8:45 am]

BILLING CODE 3510-DS-P